FEDERAL COMMUNICATIONS COMMISSION

47 CFR Part 73

[DA 02-2066; MB Docket No. 02-255; RM-10524]

Radio Broadcasting Services; Cottage Grove, Depoe Bay, Garibaldi, Toledo, and Veneta, Oregon

AGENCY: Federal Communications Commission.

ACTION: Proposed rule; correction.

SUMMARY: This document corrects the amendatory language to a proposed rule published in the Federal Register of September 12, 2002, regarding Radio Broadcasting Services in Cottage Grove, Depoe Bay, Garibaldi, Toledo, and Veneta, Oregon. The amendatory language stated the wrong channel number for the community of Garibaldi. This document corrects the channel number for the community of Garibaldi.

FOR FURTHER INFORMATION CONTACT: Victoria M. McCauley, Media Bureau, (202) 418-2180.

Correction

In proposed rule FR Doc. 02-23139, published September 12, 2002 (67 FR 57781) make the following correction.

On page 57781, in the third column of § 73.202(b), correct the amendatory language to read as follows:

2.Section 73.202(b), the Table of FM Allotments under Oregon, is amended by removing Channel 288C3 and adding Channel 264C2 at Depoe Bay, by removing Channel 288A at Cottage Grove, by removing Toledo, Channel 264C2, by adding Garibaldi, Channel 288A, and by adding Veneta, Channel 288C3.

Federal Communications Commission.
John A. Karousos,
Assistant Chief, Audio Division, Media Bureau.

[FR Doc. 02-25073 Filed 10-1-02; 8:45 am]

BILLING CODE 6712-01-P